DEPARTMENT OF TRANSPORTATION

Maritime Administration

[Docket No. MARAD-2025-0828]

Request for Comments on the Renewal of a Previously Approved Information Collection: MARAD Exercise Breakout Survey

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0550 titled MARAD Exercise Breakout Survey is being renamed “MARAD Mariner Preparedness Exercise Survey (Mariner PrepEx Survey)” to reflect the new name of the exercise program, which includes this survey. Since the last renewal, survey questions 1 and 2 are being updated to include additional modes of communication that may be restricted, while mariners are actively supporting Department of Defense Missions aboard MARAD ships. There was also an increase in the totals for respondents, responses, and burden hours. MARAD is required to publish this notice in the Federal Register to obtain comments from the public and affected agencies.

DATES: Comments must be submitted on or before December 1, 2025.

ADDRESSES: You may submit comments identified by Docket No. MARAD-2025-0828 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize and/or include your comments in the request for OMB's clearance of this information collection.

FOR FURTHER INFORMATION CONTACT: Michael DaPonte, 202-366-7627, Division of Sealift Operations and Emergency Response (MAR-612), Maritime Administration, 1200 New Jersey Avenue SE, Washington, DC 20590, Email: michael.daponte@dot.gov.

SUPPLEMENTARY INFORMATION:

Title: MARAD) Mariner Preparedness Exercise Survey (Mariner PrepEx Survey).

OMB Control Number: 2133-0550.

Type of Request: Extension with change of a currently approved collection.

Abstract: The Mariner PrepEx Survey is a component of MARAD's Mariner Preparedness Exercise Program. The survey will be conducted on a voluntary basis and provide vital information to the Ready Reserve Force (RRF) program. Periodic surveying is necessary in view of the dynamics that affect the RRF program, which include changes in the RRF fleet composition, readiness status, ship location, as well as changes to the seafaring manpower base. The survey is an integral part of the Mariner Preparedness Exercise Program and is designed to gauge mariner's training and military experience levels, willingness to participate in time of national need, and awareness of working in a contested environment.

Respondents: Merchant Mariners.

Affected Public: Individuals and households.

Estimated Number of Respondents: 1,750.

Estimated Number of Responses: 1,750.

Estimated Hours per Response: 0.0833 (5 minutes).

Annual Estimated Total Annual Burden Hours: 145.83/146 hours.

Frequency of Response: Once Annually.

(Authority: The Paperwork Reduction Act of 1995; 44 U.S.C. Chapter 35, as amended; and 49 CFR 1.49.)

By Order of the Maritime Administration.
T. Mitchell Hudson, Jr.,
Secretary, Maritime Administration.

[FR Doc. 2025-19297 Filed 10-1-25; 8:45 am]

BILLING CODE 4910-81-P